DEPARTMENT OF COMMERCE

National Oceanic and Atmospheric Administration

[I.D. 010600C]

Availability of a Draft Environmental Assessment/Finding of No Significant Impact and Receipt of an Application for an Incidental Take Permit (1232).

AGENCY: National Marine Fisheries Service (NMFS), National Oceanic and Atmospheric Administration, Commerce

ACTION: Notice of availability.

SUMMARY: NMFS has received an application for an incidental take permit (Permit) from the Oregon Department of Fish and Wildlife (ODFW) and the Washington Department of Fish and Wildlife (WDFW) pursuant to section 10(a)(1)(B) of the Endangered Species Act of 1973, as amended (ESA). As required by section 10 (a)(2)(B) of the ESA, ODFW and WDFW have also prepared a conservation plan (Plan) designed to minimize and mitigate any such take of endangered or threatened species. The Permit application is for the incidental take of ESA-listed adult and juvenile salmonids associated with otherwise lawful sport and commercial fisheries on non-listed species in the lower and middle Columbia River and its tributaries in the Pacific Northwest. The duration of the proposed Permit and Plan is one year. The Permit application includes the proposed Plan submitted by ODFW and WDFW. NMFS also announces the availability of a draft Environmental Assessment (EA) for the Permit application. NMFS is furnishing this notice in order to allow other agencies and the public an opportunity to review and comment on these documents. All comments received will become part of the public record and will be available for review pursuant to section 10(c) of the ESA.

DATES: Written comments from interested parties on the Permit application, Plan, and draft EA must be received at the appropriate address or fax number no later than 5:00pm Pacific standard time on March 6, 2000.

ADDRESSES: Written comments on the application, Plan, or draft EA should be sent to Robert Koch, Protected Resources Division, F/NWO3, 525 NE Oregon Street, Suite 500, Portland, OR 97232-2737. Comments may also be sent via fax to 503-230-5435. Comments will not be accepted if submitted via e-mail or the internet. Requests for copies of the Permit application, Plan, and draft EA should be directed to the Protected Resources Division (PRD), F/NWO3, 525 NE Oregon Street, Suite 500, Portland, OR 97232-2737. Comments received will also be available for public inspection, by appointment, during normal business hours by calling 503-230-5424.

FOR FURTHER INFORMATION CONTACT: Robert Koch, Portland, OR (ph: 503-230-5424, fax: 503-230-5435, e-mail: Robert.Koch@noaa.gov).

SUPPLEMENTARY INFORMATION: Section 9 of the ESA and Federal regulations prohibit the “taking” of a species listed as endangered or threatened. The term “take” is defined under the ESA to mean harass, harm, pursue, hunt, shoot, wound, kill, trap, capture, or collect, or to attempt to engage in any such conduct. NMFS may issue permits, under limited circumstances, to take listed species incidental to, and not the purpose of, otherwise lawful activities. NMFS regulations governing permits for threatened and endangered species are promulgated at 50 CFR 222.307.

Species Covered in This Notice

The following species and evolutionarily significant units (ESU's) are included in the Plan and Permit application:

Fish

Chinook salmon (Oncorhynchus tshawytscha): threatened, naturally produced and artificially propagated Snake River (SnR) spring/summer, threatened SnR fall, endangered, naturally produced and artificially propagated upper Columbia River (UCR) spring, threatened lower Columbia River (LCR), threatened upper Willamette River (UWR).

Sockeye salmon (O. nerka): endangered SnR.

Steelhead (O. mykiss): threatened SnR, endangered naturally produced and artificially propagated UCR, threatened middle Columbia River (MCR), threatened LCR, threatened UWR.

To date, protective regulations for threatened LCR and UWR chinook salmon, and threatened SnR, MCR, LCR, and UWR steelhead under section 4(d) of the ESA have not been promulgated by NMFS. This notice of receipt of an application requesting takes of these species is issued as a precaution in the event that NMFS issues protective regulations that prohibit takes of threatened LCR and/or UWR chinook salmon, and/or threatened SnR, MCR, LCR, and/or UWR steelhead. The initiation of a 30-day public comment period on the application, including its proposed takes of threatened LCR and UWR chinook salmon, and threatened SnR, MCR, LCR, and UWR steelhead does not presuppose the contents of the eventual protective regulations.

Background

From 1996-1999, the ODFW and WDFW sport and commercial fisheries have been managed under the terms of the Columbia River Fishery Management Plan (CRFMP). Since NMFS was a signatory party to the CFRMP, and approval of the CRFMP was a federal action subject to section 7 consultation, incidental take associated with the ODFW and WDFW fisheries was authorized in biological opinions issued on the CFRMP. NMFS has advised the states that, with the expiration of the CRFMP, and absent any subsequent agreement among the parties to U.S. v. Oregon, there is no longer a federal action that provides a nexus for section 7 consultation. Because the immediate prospects for reaching an agreement were uncertain, ODFW and WDFW have applied for a one-year ESA section 10(a)(1)(B) permit for incidental takes of ESA-listed adult and juvenile salmonids associated with sport and commercial fisheries during 2000 on non-listed species in the lower and middle Columbia River and its tributaries in the Pacific Northwest.

Conservation Plan

The Conservation Plan prepared by ODFW and WDFW describes measures designed to monitor, minimize, and mitigate the incidental takes of ESA-listed anadromous salmonids associated with some or all of the following fisheries which are expected to occur during 2000 with approximate dates as specified:

Winter commercial sturgeon fishery in the lower Columbia River: January thru February.

Winter commercial salmon fishery in the lower Columbia River: February 15 thru March 10.

Spring chinook salmon sport fishery in the lower Columbia River: January 1 thru March 11.

Spring chinook salmon sport fishery on returns from net-pen release programs in the lower Columbia River: entire year

Steelhead sport fishery in the lower Columbia River: May 16 thru December 31.

Spring chinook salmon commercial fishery at Youngs Bay, Tongue Point Basin, and Blind Slough in the lower Columbia River: mid-February thru mid-June.

Spring chinook salmon test fishery near the Reed Island area in the lower Columbia River: April

Spring chinook salmon test fishery in select areas of the lower Columbia River: February thru July.

Spring chinook salmon/steelhead fishery in the middle Columbia River near the outlet to Ringold Hatchery (Spring Creek): May 15 thru July 31 for chinook salmon, June 16 thru December 31 for steelhead.

Spring chinook salmon subsistence fishery in the middle Columbia River below Priest Rapids Dam for the Wanapum Tribe: May thru July.

Smelt commercial fishery/test fishery in the mainstem Columbia River and tributaries, smelt recreational fishery primarily in the tributaries of the Columbia River, and anchovy/herring commercial bait fishery in the Columbia River estuary: entire year.

Shad commercial fishery in the lower Columbia River: May and June.

Shad commercial fishery in the Washougal Reef area of the lower Columbia River: May and June.

Shad recreational fishery in the lower Columbia River: entire year; a sturgeon recreational fishery in the lower Columbia River: entire year.

Sturgeon tagging stock assessment project in the lower Columbia River: May thru July.

Warm water recreational fishery (primarily for spiny-rays) in the lower and middle Columbia River up to Priest Rapids Dam: entire year.

ESA-listed fish incidental mortalities associated with the ODFW and WDFW fishery programs are requested at levels specified in the Permit application. ODFW/WDFW are proposing to limit state in-river fisheries such that the incidental impacts on ESA-listed salmonids will be minimized. Six alternatives for the ODFW and WDFW fisheries were provided in the Plan, including: (1) The no action alternative; (2) the proposed conservation plan alternative (based on 1996-1999 Management Agreement Limits); (3) historic fishing levels; (4) CRFMP fishing levels; (5) levels based on the Willamette Subbasin Plan; and (6) 1996-99 Actual Harvest Rates.

Environmental Assessment/Finding of No Significant Impact

The EA package includes a draft EA and a draft Finding of No Significant Impact (FONSI) which concludes that issuing the incidental take permit is not a major Federal action significantly affecting the quality of the human environment, within the meaning of section 102(2)(C) of the National Environmental Policy Act (NEPA) of 1969, as amended. Three Federal action alternatives have been analyzed in the EA, including: (1) The no action alternative; (2) issue a permit without conditions; and (3) issue a permit with conditions.

This notice is provided pursuant to section 10(c) of the ESA and the NEPA regulations (40 CFR 1506.6). NMFS will evaluate the application, associated documents, and comments submitted thereon to determine whether the application meets the requirements of the NEPA regulations and section 10(a) of the ESA. If it is determined that the requirements are met, a permit will be issued for incidental takes of ESA-listed anadromous salmonids under the jurisdiction of NMFS. The final NEPA and permit determinations will not be completed until after the end of the 30-day comment period and will fully consider all public comments received during the comment period. NMFS will publish a record of its final action in the Federal Register.

Dated: January 28, 2000.
Wanda L. Cain,
Chief, Endangered Species Division, Office of Protected Resources, National Marine Fisheries Service.

[FR Doc. 00-2290 Filed 1-28-00; 4:20 pm]

BILLING CODE 3510-22-F